COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes products and services from the Procurement List previously furnished by such agencies.

DATES: Date added to and deleted from the Procurement List: July 26, 2020.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 11/22/2019, 5/15/2020 and 5/22/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Name(s)

MR 13031—Salad Spinner

MR 13034—Dispenser, Creamer, Plastic

MR 13035—Dispenser, Sugar, Plastic

MR 13036—Herb Keeper, Green Saver, Large, 2.8 Qt

MR 13060—Flavor Injector, Meat and Poultry

MR 13061—Good Gravy Fat Separator, 4 Cup

MR 13062—Rack, Pressure Cooker, Silicone

MR 13063—Rack, Roasting, Silicone

Mandatory Source of Supply: Cincinnati Association for the Blind, Cincinnati, OH

Contracting Activity: Military Resale-Defense Commissary Agency

Services

Service Type: Hospitality Services

Mandatory for: Customs and Border Protection, Advanced Training Center (ATC) Lodge and Conference Center, (ATC Lodge only), Harpers Ferry, WV

Mandatory Source of Supply: Professional Contract Services, Inc., Austin, TX

Contracting Activity: U.S. CUSTOMS AND BORDER PROTECTION, MISSION SUPPORT CTR DIV

Service Type: Grounds Maintenance Service

Mandatory for: Defense Information Systems Agency, DISA Global, Building 5160, Scott AFB, IL

Mandatory Source of Supply: Challenge Unlimited, Inc., Alton, IL

Contracting Activity: DEFENSE INFORMATION SYSTEMS AGENCY (DISA), IT CONTRACTING DIVISION—PL83

Service Type: Grounds Maintenance Service

Mandatory for: Defense Information Systems Agency, DITCO, Building 3600, Scott AFB, IL

Mandatory Source of Supply: Challenge Unlimited, Inc., Alton, IL

Contracting Activity: DEFENSE INFORMATION SYSTEMS AGENCY (DISA), IT CONTRACTING DIVISION—PL83

Deletions

On 5/22/2020, the Committee for Purchase From People Who Are Blind or Severely Disabled published notice of proposed deletions from the Procurement List. This notice is published pursuant to 41 U.S.C. 8503 (a)(2) and 41 CFR 51-2.3.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

2815-01-492-5709—Parts Kit, Diesel Engine Hydraulic Transmission

Mandatory Source of Supply: Georgia Industries for the Blind, Bainbridge, GA

Contracting Activity: DLA LAND AND MARITIME, COLUMBUS, OH

NSN(s)—Product Name(s):

7510-01-599-9349—Toner Cartridge, Laser, Double Yield, Compatible w/Lexmark T650 Series Printers

Mandatory Source of Supply: Alabama Industries for the Blind, Talladega, AL

Contracting Activity: GSA/FAS ADMIN SVCS ACQUISITION BR(2, NEW YORK, NY

Michael R. Jurkowski,
Deputy Director, Business & PL Operations.

[FR Doc. 2020-13789 Filed 6-25-20; 8:45 am]

BILLING CODE 6353-01-P